DEPARTMENT OF THE INTERIOR

National Park Service

Winter Use Plan, Final Environmental Impact Statement, Yellowstone National Park, Idaho, Montana, and Wyoming

AGENCY: National Park Service, Interior.

ACTION: Notice of availability of the Final Environmental Impact Statement for the Winter Use Plan, Yellowstone National Park.

SUMMARY: Pursuant to the National Environmental Policy Act of 1969, the National Park Service (NPS) announces the availability of a Final Environmental Impact Statement (EIS) for a Winter Use Plan for Yellowstone National Park, located in Idaho, Montana, and Wyoming. The EIS evaluates eight alternatives, and identifies the Preferred Alternative as Alternative 8, a one-year plan to allow oversnow vehicle use in the park for the winter of 2011/2012, at the same levels (up to 318 commercially guided, best available technology snowmobiles and 78 commercially guided snowcoaches per day) that were allowed under the interim regulation in place for the winters of 2009/2010 and 2010/2011. NPS intends to supplement this EIS next year, in order to make a long-term decision prior to the 2012/2013 winter season.

DATES: The National Park Service will execute a Record of Decision no sooner than 30 days following publication by the Environmental Protection Agency of the Notice of Availability of the Final Environmental Impact Statement.

ADDRESSES: Information will be available for public inspection online at http://parkplanning.nps.gov/YELL (click on the link to the Winter Use Plan), and in the office of Superintendent Dan Wenk, Yellowstone National Park, P.O. Box 168, Yellowstone National Park, Wyoming 82190.

FOR FURTHER INFORMATION CONTACT: Wade Vagias, P.O. Box 168, Yellowstone National Park, WY 82190,(307) 344-2035, yell_winter_use@nps.gov.

SUPPLEMENTARY INFORMATION: Eight alternatives were considered in the EIS. For alternatives 1-7 the analysis is for a presumed implementation period of 20 years. For Alternative 8 the analysis is for an implementation period of one year.

Alternative 1 is the no-action alternative. Alternative 1 would not permit public motorized vehicle use, including oversnow vehicle (OSV) use, in Yellowstone but would allow for approved non-motorized use to continue. Alternative 1 has been identified as the Environmentally Preferable Alternative. Alternative 2 would continue OSV use at the same levels as the 2009 interim rule (318 snowmobiles and 78 snowcoaches per day) for the long term. Alternative 3 would allow for snowmobile and snowcoach use levels to increase to the levels set forth in the 2004 plan (720 snowmobiles and 78 snowcoaches per day). Alternative 4 would allow for commercially guided wheeled vehicles, in addition to OSVs (100 commercially guided wheeled vehicles, 110 snowmobiles, and 30 snowcoaches per day). Alternative 5 would initially allow for the same level of use as Alternative 2 (318 snowmobiles and 78 snowcoaches per day), but would provide for a transition to snowcoaches only, if user demand is present to support such a transition, or at the discretion of the Superintendent. Upon complete transition, there could be zero snowmobiles and up to 120 snowcoaches per day. Alternative 6 would provide for use levels that vary each day, with a seasonal limit of up to 32,000 snowmobiles and 4,600 snowcoaches, and a daily limit of up to 540 snowmobiles and 78 snowcoaches. Up to 25 percent of snowmobile permits under Alternative 6 would be for unguided or non-commercially guided use. Alternative 7 would provide a variety of use levels and experiences for visitors. Four different use levels for snowmobiles and snowcoaches would be implemented, the combination of which could vary by day. Snowmobile use would range from 110 to 330 vehicles per day and snowcoach use would range from 30 to 80 vehicles per day.

The Preferred Alternative is Alternative 8. A portion of the prior preferred alternative in the Draft EIS (DEIS) consisted of a “transition year”; that portion has now been converted into a new separate Alternative 8. Under this alternative up to 318 commercially guided, best available technology snowmobiles and 78 commercially guided snowcoaches would be allowed in the park per day, and a variety of non-motorized uses would also be allowed. These conditions would be in effect only for the 2011/2012 winter season. NPS will then supplement the EIS next year and issue a new decision and long-term rule for winter use in time for the 2012/2013 season.

NPS had intended to issue a final EIS and final long-term regulation for Yellowstone winter use by December 2011. However, some of the more than 59,000 public comments received on the Draft EIS (DEIS) have raised additional questions as to long-term effects and options. In order to make a reasoned, sustainable long-term decision, NPS requires additional time to update its analyses and make that long-term decision. NPS has previously stated its intent to implement a “transition year” under the same requirements and restrictions as the 2009 interim regulation. Current information and analyses in this EIS are sufficient to support such use for another year. Selecting Alternative 8, the new Preferred Alternative, would provide the additional time needed to complete the analyses of long-term alternatives. NPS would issue a Record of Decision selecting Alternative 8, and following that, would issue a final rule, effective for one year, to implement the decision. A separate Notice of Intent to Prepare a Supplemental EIS would be published in the Federal Register.

More information regarding Yellowstone in the winter, including educational materials and a detailed history of winter use in Yellowstone, is available at http://www.nps.gov/yell/planvisit/winteruse/index.htm.

Dated: October 14, 2011.
Colin Campbell,
Deputy Regional Director, Intermountain Region, National Park Service.

[FR Doc. 2011-28582 Filed 11-3-11; 8:45 am]

BILLING CODE 4312-FY-P